DEPARTMENT OF HOMELAND SECURITY

Coast Guard

[Docket No. USCG-2025-0095]

Great Lakes Pilotage Advisory Committee; Vacancy

AGENCY: Coast Guard, Department of Homeland Security.

ACTION: Notice; request for applications.

SUMMARY: The U.S. Coast Guard is accepting applications to fill one vacancy on the Great Lakes Pilotage Advisory Committee (Committee). The Committee provides advice and makes recommendations to the Secretary of Homeland Security via the Commandant of the U.S. Coast Guard on matters relating to Great Lakes pilotage, including review of proposed Great Lakes pilotage regulations and policies.

DATES: Complete applications must reach the U.S. Coast Guard on or before May 6, 2025.

ADDRESSES: Applications must include (a) a cover letter that expresses support from the nominating group, the applicant's interest in an appointment to the Committee, and details regarding the applicant's qualifications to serve as a representative of the groups and/or viewpoints identified in the open position, (b) a resume detailing the applicant's relevant experience for the position applied for, and (c) a brief 2-3 paragraph biography written in third person perspective. Applications should be submitted via email with the subject line “Application for GLPAC” to Mr. Francis Levesque at francis.r.levesque@uscg.mil.

FOR FURTHER INFORMATION CONTACT: Mr. Francis Levesque, Alternate Designated Federal Officer of the Great Lakes Pilotage Advisory Committee; telephone 571-308-4941 or email at francis.r.levesque@uscg.mil.

SUPPLEMENTARY INFORMATION: The Committee is a Federal advisory committee, and operates under the authority of 46 U.S.C. 9307, as well as the Federal Advisory Committee Act (Pub. L. 117-286, 5 U.S.C. 10). The Committee makes recommendations to the Secretary of Homeland Security and the U.S. Coast Guard on matters relating to the Great Lakes.

Meetings of the Committee will be held with the approval of the Designated Federal Officer. The Committee is required to meet at least once per year. Additional meetings may be held at the request of a majority of the Committee or at the discretion of the Designated Federal Officer.

For this vacancy, the member serves a term of office of up to three years. The member may serve a maximum of six consecutive years. All members serve at their own expense and receive no salary or other compensation from the Federal Government. The only compensation the members may receive is for travel expenses, including per diem in lieu of subsistence, and actual reasonable expenses incurred in the performance of their direct duties for the Committee in accordance with Federal Travel Regulations.

We will consider nominations for one position:

• One member chosen from among nominations made by shippers whose cargoes are transported through Great Lakes ports.

To be eligible, applicants who are nominated should have particular expertise, knowledge, and experience regarding the regulations and policies on the pilotage vessels on the Great Lakes, and at least five years of practical experience in maritime operations.

The member who fills the position described above will be appointed to represent the interest of their respective groups and viewpoints and is not a Special Government Employee as defined in 18 U.S.C. 202(a). As a representative, the member is expected to represent and speak on behalf of interests, views, or perspectives of a recognizable group of persons or class of stakeholders.

If you are appointed as a member of the Committee, you will be required to sign a Non-Disclosure Agreement and a Gratuitous Services Agreement.

If you are interested in applying to become a member of the Committee, email your application to francis.r.levesque@uscg.mil as provided in the ADDRESSES section of this notice.

The U.S. Coast Guard will not consider incomplete or late applications.

Privacy Act Statement

Purpose: To obtain qualified applicants to fill one vacancy on the Great Lakes Pilotage Advisory Committee. When you apply for appointment to the DHS Great Lakes Pilotage Advisory Committee, DHS collects your name, contact information, and any other personal information that you submit in conjunction with your application. DHS will use this information to evaluate your candidacy for Committee membership. If you are chosen to serve as a Committee member, your name will appear in publicly available Committee documents, membership lists, and Committee reports.

(Authority: 5 U.S.C. 10; 46 U.S.C. 9307; and Department of Homeland Security Delegation No. 00915).

Routine Uses: Authorized U.S. Coast Guard personnel will use this information to consider and obtain qualified candidates to serve on the Committee. Any external disclosures of information within this record will be made in accordance with DHS/ALL-009, Department of Homeland Security Advisory Committee (73 FR 57639, October 3, 2008).

Consequences of Failure to Provide Information: Furnishing this information is voluntary. However, failure to furnish the requested information may result in your application not being considered for the Committee.

Kenneth J. Boda,
Captain, U.S. Coast Guard, Deputy Director, Marine Transportation Systems.

[FR Doc. 2025-06815 Filed 4-18-25; 8:45 am]

BILLING CODE 9110-04-P